DEPARTMENT OF TRANSPORTATION

Federal Aviation Administration

Notice of Intent To Execute an Agreement Effective October 1, 2007, to (1) Release Certain Properties From All Terms, Conditions, Reservations and Restrictions of the Quitclaim Deed Agreement Between the City of Pompano Beach and the Federal Aviation Administration for the Pompano Beach Airpark, Pompano Beach, FL; and (2) Approve Interim Non-Aeronautical Uses for Certain Properties Subject to the Same Provisions

AGENCY: Federal Aviation Administration (FAA), DOT.

ACTION: Request for public comment.

SUMMARY: The FAA hereby provides notice of intent to execute an agreement with the City of Pompano Beach, Florida, to formally release certain airport properties, 295.7 acres, at the Pompano Beach Airpark, Pompano Beach, FL from the conditions, reservations, and restrictions as contained in a Quitclaim Deed agreement between the FAA and the City of Pompano Beach, dated August 29, 1947, and correctional Quitclaim Deed dated December 18, 1947, and supplemental Quitclaim Deed dated June 24, 1948; and approve interim non-aeronautical uses for certain other airport properties, 250 acres, at the Pompano Beach Airpark, Pompano Beach, FL. The release of property from the conditions, reservations, and restrictions as contained in the Quitclaim Deed agreements will allow the City of Pompano Beach to make a one-time payment, per parcel being formally released, to the Airport Capital Improvement Fund to permit use of the properties for municipal purposes without further compensation to the airport. The City will make periodic deposits into the fund until there are adequate funds to make a one-time payment per parcel. Compensation for each property will be provided in this manner. For parcels being used for interim, non-aeronautical purposes, the City will compensate the airport based on current fair market rental value. Revenues produced by interim uses will be deposited into a separate Airport Enterprise Fund. These funds must be used for airport purposes.

The property is located in the City of Pompano Beach, Broward County, Florida. The parcels are currently designated as both aeronautical and non-aeronautical uses. The properties to be formally released to the City of Pompano Beach are expected to remain municipal uses. FAA has agreed that the property value for the formal releases will be determined through historical appraisals of lands based on the year they were developed for municipal use. Interest will be assessed on each property in accordance with 49 U.S.C. 47107(o) at a fixed rate from the date the property was converted to a non-aeronautical, municipal use to the date the city makes its one-time payment to the Airport Capital Improvement Fund. Funds received through the release of airport properties will be subsequently reinvested in airport capital improvements, as mutually agreed upon by the FAA and the City.

Documents reflecting the Sponsor's request and the draft agreement are available, by appointment only, for inspection at the City of Pompano Beach municipal offices and the FAA Orlando Airports District Office.

DATES: May 23, 2007.

ADDRESSES: Documents are available for review at the City of Pompano Beach, Office of City Manager, 100 West Atlantic Boulevard, Pompano Beach, Florida 33060, and the FAA Airports District Office, 5950 Hazeltine National Drive, Suite 400, Orlando, FL 32822. Written comments on the Sponsor's request must be delivered or mailed to: Rebecca R. Henry, Program Manager, Orlando Airports District Office, 5950 Hazeltine National Drive, Suite 400, Orlando, FL 32822-5024.

FOR FURTHER INFORMATION CONTACT: Rebecca R. Henry, Program Manager, Orlando Airports District Office, 5950 Hazeltine National Drive, Suite 400, Orlando, FL 32822-5024.

SUPPLEMENTARY INFORMATION: Title 49 United States Code, Section 47153 and FAA Policy requires the FAA to provide public notice prior to the “waiver” or “modification” of a Federal obligation to use certain airport land for an aeronautical purpose if the Secretary decides it is necessary to protect or advance the interests of the United States in civil aviation or for national defense.

W. Dean Stringer,
Manager, Orlando Airports District Office, Southern Region.

[FR Doc. 07-1988 Filed 4-20-07; 8:45 am]

BILLING CODE 4910-13-M